COMMISSION ON CIVIL RIGHTS

Notice of Public Meetings of the Maryland Advisory Committee

AGENCY: U.S. Commission on Civil Rights.

ACTION: Announcement of planning meeting and briefings.

SUMMARY: Notice is hereby given, pursuant to the provisions of the rules and regulations of the U.S. Commission on Civil Rights (Commission), and the Federal Advisory Committee Act (FACA), that briefings of the Maryland Advisory Committee to the Commission will convene by WebEx virtual platform and conference call on Tuesday, October 5, 2021, at 12:00 p.m. (ET) for continued planning on the water affordability project. The Committee will also convene briefings by WebEx virtual platform and conference at 12:00 p.m. (ET) on Tuesday, November 2; Thursday, November 4; Tuesday, November 9; and Tuesday, November 16, 2021. The purpose of the briefings is to hear from government officials, advocates, experts, academicians, the public, and others on water accessibility and affordability in Maryland.

DATES: Tuesday, October 5; Tuesday, November 2; Thursday, November 4; Tuesday, November 9; and Tuesday, November 16, 2021; 12:00 p.m. (ET).

Public WebEx Conference Links (Video and Audio)

Link for 10/5/21 (Tuesday); 12:00 p.m. (ET): https://bit.ly/2XBJZbg

Link for 11/2, 11/9, and 11/16/21 (Tuesdays); 12:00 p.m. (ET): https://bit.ly/3CgyiWn

Link for 11/4/21 (Thursday); 12:00 p.m. (ET): https://bit.ly/2Z4fF9Q

IF PHONE ONLY on 10/5/21: 1-800-360-9505; Access code: 1998 18 3090

IF PHONE ONLY on 11/2/21, 11/9/21, 11/16/21: 1-800-360-9505; Access code: 2764 724 3858

IF PHONE ONLY on 11/4/21: 1-800-360-9505; Access code: 2760 387 4133

FOR FURTHER INFORMATION CONTACT: Barbara Delaviez at ero@usccr.gov or by phone at 202-381-8915.

SUPPLEMENTARY INFORMATION: The meeting is available to the public through the web link above. If joining only via phone, callers can expect to incur charges for calls they initiate over wireless lines, and the Commission will not refund any incurred charges. Individuals who are deaf, deafblind and hard of hearing may also follow the proceedings by first calling the Federal Relay Service at 1-800-877-8339 and providing the Service with conference details found through registering at the web link above. To request additional accommodations, please email bdelaviez@usccr.gov at least 10 days prior to the meeting.

Members of the public are invited to make statements during the open comment period of the meeting or submit written comments. The comments must be received in the regional office approximately 30 days after each scheduled meeting. Written comments may be emailed to Barbara Delaviez at ero@usccr.gov. Persons who desire additional information may contact Barbara Delaviez at 202-539-8246.

Records and documents discussed during the meeting will be available for public viewing as they become available at www.facadatabase.gov. Persons interested in the work of this advisory committee are advised to go to the Commission's website, www.usccr.gov, or to contact the Eastern Regional Office at the above phone number or email address.

Agenda

Oct. 5, Nov. 2, Nov. 4, Nov. 9, and Nov. 16; 12:00 p.m. (ET)

• Rollcall

• Planning Meeting: Oct. 5

• Briefings on Water Affordability/Accessibility: Nov. 2, Nov. 4, Nov. 9, Nov. 16

• Next Steps and Other Business

• Open Comment

• Adjournment

Dated: September 21, 2021.
David Mussatt,
Supervisory Chief, Regional Programs Unit.

[FR Doc. 2021-20809 Filed 9-24-21; 8:45 am]

BILLING CODE P